DEPARTMENT OF COMMERCE

International Trade Administration

[C-570-971]

Multilayered Wood Flooring From the People's Republic of China: Final Results of Expedited First Sunset Review of the Countervailing Duty Order

AGENCY: Enforcement and Compliance, International Trade Administration, Department of Commerce.

SUMMARY: The Department of Commerce (the Department) finds that revocation of the countervailing duty (CVD) order on multilayered wood flooring (MLWF) from the People's Republic of China (PRC) would likely lead to continuation or recurrence of a countervailable subsidy at the levels indicated in the “Final Results of Review” section of this notice.

DATES: Effective March 6, 2017.

FOR FURTHER INFORMATION CONTACT: Robert James or John Anwesen, AD/CVD Operations, Office VIII, Enforcement and Compliance, International Trade Administration, U.S. Department of Commerce, 1401 Constitution Ave. NW., Washington, DC 20230; telephone: (202) 482-0649 or (202) 482-0131, respectively.

SUPPLEMENTARY INFORMATION:

Background

On November 1, 2016, the Department initiated the first sunset review of the CVD order on MLWF from the PRC pursuant to section 751(c) of the Tariff Act of 1930, as amended (the Act) and 19 CFR 351.218(c).¹ The Department received a notice of intent to participate in the review on behalf of the Coalition for American Hardwood Parity and its member companies, Cumberland Products Group, LLC, d/b/a American OEM Wood Floors, Mannington Mills, Inc., Mohawk Industries, Inc., Shaw Industries Group, Inc. (collectively, CAHP), within the deadline specified in 19 CFR 351.218(d)(1)(i).² CAHP claimed interested party status under section 771(9)(C) and (F) of the Act, as domestic producers of the domestic like product and an association comprised of domestic producers.

¹ See Initiation of Five-Year (“Sunset”) Reviews, 81 FR 75808 (November 1, 2016).

² See Coalition for American Hardwood Parity et al.'s Notice of Intent to Participate entitled, “Petitioners' Notice of Intent to Participate: Five-Year (“Sunset”) Review: Multilayered Wood Flooring from the People's Republic of China,” dated November 16, 2016.

The Department received an adequate substantive response from the domestic industry within the 30-day deadline specified in 19 CFR 351.218(d)(3)(i).³ The Department did not receive a substantive response from any government or respondent interested party to the proceeding. Because the Department received no response from the respondent interested parties, the Department conducted an expedited review of this CVD order, pursuant to section 751(c)(3)(B) of the Act and 19 CFR 351.218(e)(1)(ii)(C)(2).

³ See Coalition for American Hardwood Parity et al.'s Substantive Response entitled “Petitioner's Substantive Response: Five Year (“Sunset”) Review: Multilayered Wood Flooring from the People's Republic of China,” dated December 1, 2016.

Scope of the Order

The products covered by this order are certain multilayered wood flooring which are composed of an assembly of two or more layers or plies of wood veneer(s) ⁴ in combination with a core. Imports of the subject merchandise are provided for under the following subheadings of the Harmonized Tariff Schedule of the United States (HTSUS): 4412.31.0620; 4412.31.0640; 4412.31.0660; 4412.31.2610; 4412.31.2620; 4412.31.4140; 4412.31.4160; 4412.31.4175; 4412.31.5225; 4412.32.0640; 4412.32.0665; 4412.32.2610; 4412.32.2625; 4412.32.3225; 4412.32.5700; 4418.74.2000; 4418.74.9000; 4418.75.4000; 4418.75.7000; 4418.79.0100; 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; 4418.72.9500; and 9801.00.2500.⁵ Although the HTSUS numbers are provided for convenience and customs purposes, the written product description remains dispositive. For a full description of the scope, see the Issues and Decision Memorandum, which is hereby adopted by this notice.⁶

⁴ A “veneer” is a thin slice of wood, rotary cut, sliced or sawed from a log, bolt or flitch. Veneer is referred to as a ply when assembled.

⁵ The following HTS numbers were added to the Case Reference File in ACE: 9801.00.2500, 4412.31.0620, 4412.31.0640, 4412.31.0660, 4412.31.2610, 4412.31.2620, 4412.31.4140, 4412.31.4160, 4412.31.4175, 4412.31.5225, 4412.32.0640, 4412.32.0665, 4412.32.2610, 4412.32.2625, 4412.32.3225, 4412.32.5700, 4418.74.2000, 4418.74.9000, 4418.75.4000, 4418.75.7000, 4418.79.0100. See Memorandum regarding: Multilayered Wood Flooring from the PRC, Modification of the Case Reference File in ACE, dated February 8, 2017; see also Memorandum regarding: Multilayered Wood Flooring from the People's Republic of China: A-570-970, C-570-971, dated February 9, 2017.

⁶ See Department Memorandum, “Issues and Decision Memorandum for the Final Results of the Expedited First Sunset Review of the Countervailing Duty Order on Multilayered Wood Flooring from the People's Republic of China” (Issues and Decision Memorandum), dated concurrently with this final notice.

The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed at http://enforcement.trade.gov/frn/. The signed Issues and Decision Memorandum and the electronic version of the Issues and Decision Memorandum are identical in content.

Analysis of Comments Received

All issues raised in this review are addressed in the Issues and Decision Memorandum. The issues discussed in the Issues and Decision Memorandum address the likelihood of continuation or recurrence of a countervailable subsidy, the net countervailable subsidy likely to prevail if the order were revoked, and the nature of the subsidy.

Final Results of Review

Pursuant to section 752(b)(1) and (3) of the Act, we determine that revocation of the CVD order on MLWF from the PRC would be likely to lead to continuation or recurrence of countervailable subsidies at the rates listed below:

Exporter/manufacturer | Net subsidy rate % (ad valorem)
Fine Furniture (Shanghai) Ltd.; Great Wood (Tonghua) Ltd.; Fine Furniture Plantation (Shishou) Ltd | 1.90
All-Others | 2.27
124 Non-Cooperating Companies ⁷ | 27.37

Notification Regarding Administrative Protective Order

⁷ See Issues and Decision Memorandum at Appendix I.

This notice serves as the only reminder to parties subject to administrative protective order (APO) of their responsibility concerning the return or destruction of proprietary information disclosed under APO in accordance with 19 CFR 351.305. Timely notification of return/destruction of APO materials or conversion to judicial protective order is hereby requested. Failure to comply with the regulations and the terms of an APO is a violation which is subject to sanction.

The Department is issuing and publishing these final results and notice in accordance with sections 751(c), 752(b), and 777(i)(1) of the Act and 19 CFR 351.218.

Dated: February 27, 2017.
Ronald K. Lorentzen,
Acting Assistant Secretary for Enforcement and Compliance.

[FR Doc. 2017-04271 Filed 3-3-17; 8:45 am]

BILLING CODE 3510-DS-P